DEPARTMENT OF COMMERCE

International Trade Administration

[C-580-842]

Structural Steel Beams from the Republic of Korea: Notice of Preliminary Results of Changed Circumstances Countervailing Duty Administrative Review

AGENCY: Import Administration, International Trade Administration, Department of Commerce.

ACTION: Notice of Preliminary Results of Changed Circumstances Countervailing Duty Administrative Review.

SUMMARY: On September 28, 2001, the Department of Commerce (Department) published a notice of initiation in the above-named case. As a result of this review, the Department preliminarily finds that the new name of Inchon Iron & Steel Co., Ltd. (Inchon) is INI Steel Company (INI).

FOR FURTHER INFORMATION CONTACT: Tipten Troidl or Richard Herring, AD/CVD Enforcement Office VI, Group II, Import Administration, International Trade Administration, U.S. Department of Commerce, 14th Street and Constitution Avenue, N.W., Washington, D.C. 20230; telephone (202) 482-2786.

SUPPLEMENTARY INFORMATION:

Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department's regulations are to the regulations at 19 CFR Part 351 (2001).

Background

The Department published on July 3, 2000, a Final Affirmative Countervailing Duty Determination: Structural Steel Beams From the Republic of Korea, 65 FR 41051, (Structural Beams); and published on August 14, 2000, the Notice of Countervailing Duty Order: Structural Steel Beams From the Republic of Korea, 65 FR 49542. The Department determined that Inchon was excluded from suspension of liquidation pursuant to that order because it received a de minimis net subsidy during the period of investigation. In an August 6, 2001, letter to the Department, INI notified the Department that as of August 1, 2001, Inchon's corporate name had changed to INI Steel Company. On September 28, 2001, the Department published a Notice of Initiation of Changed Circumstances Countervailing Duty Administrative Review, 66 FR 49641.

Scope of the Review

The products covered by this review include structural steel beams that are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S”or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise subject to this proceeding is dispositive.

Preliminary Results

In determining that Inchon changed its name to INI, we reviewed documents submitted on the record, including: (1) the minutes of Inchon's shareholder's meeting; (2) official certification of name change registration; and (3) INI's business registration certificate. The minutes of the shareholder's meeting shows that the name change was approved under item two: “Topic of Bill of a Partial Amendment to Articles of Incorporation.” Article 1, which refers to the name of the company, shows that, prior to the amendment, the name of the company was Inchon Iron & Steel Co., Ltd, and that, after the partial amendment to the Articles of Incorporation, the company's name is INI Steel Company. We also reviewed a translated copy of the official certification of name change that INI provided to the Inchon District Court on July 31, 2001. Finally, we reviewed INI's business registration certificate as issued on August 1, 2001 by the Inchon City Tax Office. This document states that the reason the document was issued was for a “change of company name.”

Based upon the information on the record, we preliminarily determine that Inchon has changed its name to INI Steel company. If the final results of this review remain unchanged, we intend to update our instructions to U.S. Customs to reflect this name change, and INI (Inchon) will continue to be excluded from this order.

Public Comment

Pursuant to 19 CFR 351.310, any interested party may request a hearing within 10 days of publication of this notice. Persons interested in attending the hearing should contact the Department for the date and time of any hearing. Case briefs and/ or written comments from interested parties may be submitted no later than 10 days after the date of publications of this notice. Rebuttal briefs and rebuttals comments, limited to the issues raised in those case briefs or comments, may be filed no later than 17 days after the publication of this notice. All written comments must be submitted and served on all interested parties on the Department's service list in accordance with 19 CFR 351.303. The Department will publish in the Federal Register a notice of final results of this changed circumstance countervailing duty administrative review, including the results of its analysis of any issues raised in any written comments.

During the course of this changed circumstance review, we will not change any cash deposit instructions on the merchandise subject to this changed circumstances review, unless a change is determined to be warranted pursuant to the final results of this review.

This notice is in accordance with sections 751(b)(1) and 777(i)(1) of the Act, 19 CFR 351.221(c)(3) and 19 CFR 351.216.

Dated: May 28, 2002.
Bernard T. Carreau,
Acting Assistant Secretary for Import Administration.

[FR Doc. 02-13841 Filed 5-31-02; 8:45 am]

BILLING CODE 3510-DS-S